DEPARTMENT OF HEALTH AND HUMAN SERVICES

Food and Drug Administration

21 CFR Chapter 1

Change of Address; Technical Amendment

AGENCY: Food and Drug Administration, HHS.

ACTION: Final rule; technical amendment.

SUMMARY: The Food and Drug Administration (FDA) is amending its regulations to reflect a change in the address for the Center for Food Safety and Applied Nutrition (CFSAN). This action is editorial in nature and is intended to improve the accuracy of the agency's regulations.

EFFECTIVE DATE: December 14, 2001.

FOR FURTHER INFORMATION CONTACT: Joyce Strong, Office of Policy and Planning (HF-27), Food and Drug Administration, 5600 Fishers Lane, Rockville, MD 20857, 301-827-7010.

SUPPLEMENTARY INFORMATION: In the Federal Register of November 6, 2001 (66 FR 56034), FDA amended its regulations to reflect that effective December 14, 2001, CFSAN's address was to change to 5100 Paint Branch Pkwy., College Park, MD 20740. The document amended FDA's regulations by removing “200 C Street, SW., Washington, DC 20204” or “200 C St. SW., Washington, DC 20204” wherever they appeared and added in their place CFSAN's new address. However, after publication of the November 6, 2001, document, CFSAN's outdated address inadvertently remained in certain regulations. This document amends FDA's regulations to reflect CFSAN's change of address by removing the entire outdated address and adding the new address wherever it appears in 21 CFR parts 101, 165, 172, 173, 177, 178, and 184.

Publication of this document constitutes final action on these changes under the Administrative Procedure Act (5 U.S.C. 553). Notice and public procedure are unnecessary because FDA is merely correcting nonsubstantive errors.

Therefore, under the Federal Food, Drug, and Cosmetic Act and under authority delegated to the Commissioner of Food and Drugs, 21 CFR chapter I is amended as follows:

1. Parts 101, 165, 172, 173, 177, 178, and 184 are amended by removing “200 C St. SW., Washington, DC” or “200 C St. SW., Washington, DC 20204” or “200 C St. SW., Washington, DC 20204-0001” wherever they appear and by adding in their place “5100 Paint Branch Pkwy., College Park, MD 20740.”

2. Parts 710 and 720 are amended by removing “Department of Health and Human Services, Washington, DC 20204” wherever it appears and by adding in its place “5100 Paint Branch Pkwy., College Park, MD 20740.”

Dated: March 25, 2003.
Jeffrey Shuren,
Assistant Commissioner for Policy.

[FR Doc. 03-7600 Filed 3-28-03; 8:45 am]

BILLING CODE 4160-01-S